FEDERAL RESERVE SYSTEM

Formations of, Acquisitions by, and Mergers of Bank Holding Companies; Correction

This notice corrects a notice (FR Doc. E6-16468) published on page 58864 of the issue for Thursday, October 5, 2006.

Under the Federal Reserve Bank of Kansas City heading, the entry for First Miami Bancshares, Inc., is revised to read as follows:

A. Federal Reserve Bank of Kansas City (Donna J. Ward, Assistant Vice President) 925 Grand Avenue, Kansas City, Missouri 64198-0001:

1. First Miami Bancshares, Inc., Miami, Oklahoma; to acquire up to 100 percent of the voting shares of Bank of Billings, Billings, Missouri.

Comments on this application must be received by October 30, 2006.

Board of Governors of the Federal Reserve System, October 11, 2006.
Robert deV. Frierson,
Deputy Secretary of the Board.

[FR Doc. E6-17152 Filed 10-16-06; 8:45 am]

BILLING CODE 6210-01-S